OVERSEAS PRIVATE INVESTMENT CORPORATION

Submission for OMB Review; Comment Request

AGENCY: Overseas Private Investment Corporation (OPIC).

ACTION: Request for comments.

SUMMARY: In compliance with the requirement of section 3506(c)(2)(A) of the Paperwork Reduction Act of 1995, the Overseas Private Investment Corporation (OPIC) has submitted to the Office of Management and Budget (OMB) the following proposal for the collection of information. Comments are being solicited on the need for the information; the accuracy of the Agency's burden estimate; the quality, practical utility and clarity of the information to be collected; and ways to minimize the reporting burden, including automated collection techniques by using other forms of technology. The proposed information collection request is summarized below.

DATES: All comments must be received by OMB within 30 calendar days from the publication date of this Notice.

ADDRESSES: Requests for information regarding this information collection, including a copy of the proposed information collection and supporting documentation, may be obtained from the Agency Submitting Officer below. Comments on the survey should be submitted to the OMB contact listed below.

FOR FURTHER INFORMATION CONTACT: OPIC Agency Submitting Officer: Essie Bryant, Records Manager, Overseas Private Investment Corporation, 1100 New York Avenue, NW., Washington, DC 20527, telephone (202) 336-8563.

OMB Contact: Office of Information and Regulatory Affairs, U.S. Office of Management and Budget, Attention: Mr. David Rostker, OPIC Desk Officer, 725 17th Street, NW., Washington, DC 20503.

SUPPLEMENTARY INFORMATION:

Type of Request: New information collection.

Title: 2006 OPIC Client Satisfaction Survey.

OMB Approval Number: None.

Frequency of Response: Once per client.

Type of Respondents: Individual business officer representatives of U.S. companies sponsoring projects overseas.

Respondent's Obligation: Voluntary.

Affected Public: U.S. companies or citizens sponsoring projects overseas.

Estimated Number of Respondents: 100.

Estimated Time Per Response: 30 minutes.

Estimated Total Annual Burden: $0.

Estimated Federal Cost: $14,465.00.

Authority for Information Collection: Sections 231 and 234 of the Foreign Assistance Act of 1961, as amended.

Abstract (Needs and Uses of Information Collection): OPIC is conducting a telephone survey of its clients to determine their satisfaction with its products and services. OPIC will use the survey results to develop strategies to improve customer service. Comments are invited on: (1) Whether the proposed collection of information is necessary for the proper performance of the functions of OPIC, including whether the information collected will have practical utility; (2) the accuracy of the OPIC's estimate of the burden of the proposed collection of information; (3) ways to enhance the quality, utility, and clarity of the information to be collected; and (4) ways to minimize the burden of the collection of information on respondents, including automated collection techniques or the use of other forms of information technology.

Dated: May 10, 2006.
Eli Landy,
Senior Counsel for Administrative Law, Department of Legal Affairs.

[FR Doc. 06-4536 Filed 5-15-06; 8:45 am]

BILLING CODE 3210-01-M